DEPARTMENT OF STATE

[Public Notice 5492]

United States-Egypt Science and Technology Joint Board; Public Announcement of a Science and Technology Program for Competitive Grants To Support Junior Scientist Development Visits by U.S. and Egyptian Scientists

July 10, 2006.

AGENCY: U.S. Department of State.

ACTION: Notice.

DATES: Effective Date: July 10, 2006.

FOR FURTHER INFORMATION CONTACT: Joan Mahoney, Program Administrator, U.S.-Egypt Science and Technology Grants Program, U.S. Embassy, Cairo/ECPO, Unit 64900, Box 6, APO AE 09839-4900; phone: 011-(20-2) 797-2925; fax: 011-(20-2) 797-3150; e-mail: mahoneyjm@state.gov. The 2006 Program guidelines for Junior Scientist Development visits will be available starting July 10, 2006 on the Joint Board Web site: http://egypt.usembassy.gov/usegypt.htm.

SUPPLEMENTARY INFORMATION: Authority: This program is established under 22 U.S.C. 2656d and the Agreement for Scientific and Technological Cooperation between the Government of the United States of America and the Government of the Arab Republic of Egypt.

A solicitation for this program will begin July 10, 2006. This program will provide modest grants for successfully competitive proposals for development visits by U.S. Junior Scientists to Egypt and Junior Egyptian Scientists to the United States. Applicants must be scientists who have received their PhD within the past ten years; in addition, U.S. applicants only may have a Master's degree or be currently enrolled in a PhD program.

Applications considered for funding must be postmarked by October 10, 2006. All proposals which fully meet the submission requirements will be considered; however, special consideration will be given to proposals in the areas of Biotechnology, Standards and Metrology, Environmental Technologies, Energy, Manufacturing Technologies and Information Technology. More information on these priorities and copies of the Program Announcement/Application may be obtained upon request.

Jeffrey A. Miotke,
Deputy Assistant Secretary for Health and Science, Bureau of Oceans and International Environmental and Scientific Affairs, Department of State.

[FR Doc. E6-13197 Filed 8-10-06; 8:45 am]

BILLING CODE 4710-09-P